DEPARTMENT OF COMMERCE

National Oceanic and Atmospheric Administration

50 CFR Part 622

[I.D. 060100B]

South Atlantic Fishery Management Council; Public Hearing

AGENCY: National Marine Fisheries Service (NMFS), National Oceanic and Atmospheric Administration, Commerce.

ACTION: Public hearing; request for comments.

SUMMARY: The South Atlantic Fishery Management Council (Council) will convene an additional public hearing regarding the draft Fishery Management Plan for the Dolphin and Wahoo Fishery of the Atlantic Ocean, Caribbean and Gulf of Mexico (draft FMP). The overall goal of the FMP is to provide a comprehensive management structure for dolphin and wahoo in the Atlantic Ocean, Gulf of Mexico, and Caribbean exclusive economic zone (EEZ). The FMP will take a precautionary approach in conserving these fishery resources, achieving optimum yield (OY), and maintaining current allocations among user groups. The hearing dates and locations for the Council's other hearings on the draft FMP were announced in an earlier Federal Register document (65 FR 20428, April 17, 2000).

DATES: The hearing will be held on June 25, 2000. The Council will accept written comments on the draft FMP through July 7, 2000. See

SUPPLEMENTARY INFORMATION: for the specific date and time of the public hearing.

ADDRESSES: Written comments should be sent to Bob Mahood, Executive Director, South Atlantic Fishery Management Council, One Southpark Circle, Suite 306, Charleston, SC 29407-4699. Copies of the draft FMP are available from Kim Iverson, South Atlantic Fishery Management Council, One Southpark Circle, Suite 306, Charleston, SC 29407-4699; telephone: 843-571-4366. See SUPPLEMENTARY INFORMATION for specific hearing location.

FOR FURTHER INFORMATION CONTACT: Kim Iverson, South Atlantic Fishery Management Council, One Southpark Circle, Suite 306, Charleston, SC 29407-4699; telephone: 843-571-4366; fax: 843-769-4520; email address: kim.iverson@noaa.gov.

SUPPLEMENTARY INFORMATION:

Proposed FMP Management Measures

The draft FMP provides for the following: Establishment of management units for dolphin and wahoo; proposed dealer, vessel and operator permit requirements; reporting requirements; establishment of a maximum sustainable yield (MSY) and OY; definition of overfishing for dolphin and wahoo; and the establishment of a framework procedure for regulatory adjustments without requiring FMP amendments.

The following proposed management measures are under consideration for dolphin and wahoo in the Atlantic EEZ: (1) Prohibition of the sale of recreationally caught fish in the Atlantic EEZ; (2) a limit on the percent of dolphin harvested in the Atlantic EEZ by the recreational fishery and the commercial fishery, at 87 percent and 13 percent, respectively. (Note: Should either sector's catch exceed these percentages, the Council will review the data and evaluate the need for additional regulations which may be established through the FMP's framework procedures); (3) a recreational bag limit of 5 to 10 dolphins per person per day, excluding the captain and crew of for-hire boats in the Atlantic EEZ; (4) a commercial dolphin trip limit of 1,000 to 5,000 lb (453.6 to 2268.0 kg) or an equivalent number of fish, with no transfer at sea allowed in the Atlantic EEZ; (5) no minimum size limit for dolphin in the Atlantic EEZ; (6) a commercial trip limit for wahoo of 500 lb (226.8 kg) or an equivalent number of fish, with no transfer at sea allowed in the Atlantic EEZ; (7) no minimum size limit for wahoo in the Atlantic EEZ; (8) a recreational bag limit of two wahoo per person per day for the recreational fishery, excluding the captain and crew of for-hire boats in the Atlantic EEZ; (9) specification of allowable gear for dolphin and wahoo in the Atlantic EEZ as surface longline and as hook-and-line gear including manual, electric, or hydraulic rod and reels, bandit gear, and spearfishing gear; (10) prohibition of the use of pelagic longline gear for dolphin and wahoo concurrent with time/area closures to the use of such gear for highly migratory pelagic species in the Atlantic EEZ; (11) establish a fishing year of January 1 to December 31 for the dolphin and wahoo fishery; (12) identification of essential fish habitat (EFH) for dolphin and wahoo in the Atlantic; and (13) identification of EFH—Habitat Areas of Particular Concern for dolphin and wahoo in the Atlantic.

Time and Location for the Public Hearing

The public hearing regarding the draft FMP for Dolphin/Wahoo will be held at the following date, time, and location.

June 25, 2000, 7:00 p.m., Quality Inn Lake Wright, 6280 Northhampton Blvd., Norfolk, VA 23502, Telephone: 757-461-6251.

Copies of the draft FMP can be obtained from the Council (see ADDRESSES).

Special Accommodations

These meetings are physically accessible to people with disabilities. Requests for sign language interpretation or other auxiliary aids should be directed to the Council office (see ADDRESSES) by June 19, 2000.

Dated: June 12, 2000.
Bruce C. Morehead,
Acting Director , Office of Sustainable Fisheries, National Marine Fisheries Service.

[FR Doc. 00-15305 Filed 6-15-00; 8:45 am]

BILLING CODE 3510-22-F